DEPARTMENT OF JUSTICE

Office of Justice Programs

[OMB Number 1121-0102]

Agency Information Collection Activities: Existing Collection; Comments Requested

ACTION: 60-Day Notice of Information Collection Under Review: Extension and revision of existing collection; Prison Population Reports: Summary of Sentenced Population Movement—National Prisoner Statistics.

The Department of Justice (DOJ), Office of Justice Programs, will be submitting the following information collection to the Office of Management and Budget (OMB) for review and approval in accordance with the Paperwork Reduction Act of 1995. The proposed information collection is published to obtain comments from the public and affected agencies. Comments are encouraged and will be accepted for “sixty days” until May 16, 2011. This process is conducted in accordance with 5 CFR 1320.10.

If you have comments especially regarding the estimated public burden and associated response time, or need a copy of the proposed information collection instrument with instructions or additional information, please contact Paul Guerino by e-mail at paul.guerino@usdoj.gov or at (202) 307-0349.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Paul Guerino at 202-307-0349 or the DOJ Desk Officer at 202-395-3176.

Request written comments and suggestions from the public and affected agencies concerning the proposed collection of information are encouraged. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of This Information Collection

(1) Type of Information Collection: Extension and minor revision currently approved collection.

(2) Title of the Form/Collection: Summary of Sentenced Population Movement—National Prisoner Statistics.

(3) Agency form number, if any, and the applicable component of the Department of Justice sponsoring the collection: Form number: NPS-1B. Office of Justice Programs, U.S. Department of Justice.

(4) Affected public who will be asked to respond, as well as a brief abstract: For the NPS-1B form, 51 central reporters (one from each and the Federal Bureau of Prisons) responsible for keeping records on inmates will be asked to provide information for the following categories:

(a) As of December 31, the number of male and female inmates within their custody and under their jurisdiction with maximum sentences of more than one year, one year or less; and unsentenced inmates;

(b) The number of inmates housed in privately operated facilities, county or other local authority correctional facilities, or in other state or Federal facilities on December 31;

(c) Prison admission information in the calendar year for the following categories: New court commitments, parole violators, other conditional release violators returned, transfers from other jurisdictions, AWOLs and escapees returned, and returns from appeal and bond;

(d) Prison release information in the calendar year for the following categories: Expirations of sentence, commutations, other conditional releases, probations, supervised mandatory releases, paroles, other conditional releases, deaths by cause, AWOLs, escapes, transfers to other jurisdictions, and releases to appeal or bond;

(e) Number of inmates under jurisdiction on December 31 by race and Hispanic origin;

(f) Number of inmates in custody classified as non-citizens and/or under 18 years of age;

(g) Testing of incoming inmates for HIV; and HIV infection and AIDS cases on December 31; and

(h) The aggregate rated, operational, and design capacities, by sex, of each State's correctional facilities at year-end.

The Bureau of Justice Statistics uses this information in published reports and for the U.S. Congress, Executive Office of the President, practitioners, researchers, students, the media, and others interested in criminal justice statistics.

5) An estimate of the total number of respondents and the amount of time needed for an average respondent to respond to both forms: 51 respondents each taking an average 6.5 total hours to respond to the NPS-1B. Burden hours are down by 76 hours since the last clearance because we are eliminating the NPS-1A midyear counts to reduce redundancy. We plan to establish a series of rotating short forms to replace the NPS-1A which will collect data on special topics, such as mental health, medical problems, and reentry, but these forms are in the working stages. A supplemental approval and burden adjustment will be sought through OMB when the materials are ready for review.

(6) An estimate of the total public burden (in hours) associated with the collection: 332 annual burden hours.

If additional information is required contact: Mrs. Lynn Murray, Department Clearance Officer, United States Department of Justice, Justice Management Division, Policy and Planning Staff, Two Constitution Square, 145 N Street, NE., Suite 2E-808, Washington, DC 20530.

Dated: March 9, 2011.
Lynn Murray,
Department Clearance Officer, PRA, Department of Justice.

[FR Doc. 2011-5966 Filed 3-14-11; 8:45 am]

BILLING CODE 4410-18-P